DEPARTMENT OF COMMERCE

National Oceanic and Atmospheric Administration

50 CFR Part 660

[Docket No. 040429134-4135-01; I.D. 050405D]

Fisheries Off West Coast States and in the Western Pacific; West Coast Salmon Fisheries; Inseason Action #1—Adjustment of the Commercial Fisheries From the Cape Falcon, Oregon, to the Oregon-California Border

AGENCY: National Marine Fisheries Service (NMFS), National Oceanic and Atmospheric Administration (NOAA), Commerce.

ACTION: Modification of fishing seasons; request for comments.

SUMMARY: NMFS announces that the commercial salmon fisheries in the area from the Cape Falcon, Oregon, to the Oregon-California Border were modified by inseason action. This action was necessary to conform to the 2004 management goals. The intended effect of this action was to allow the fishery to operate within the seasons and quotas specified in the 2004 annual management measures.

DATES: Adjustments for the area from the Cape Falcon, OR, to the Oregon-California Border effective 0001 hours local time (l.t.), March 15, 2005, until 2359 hours l.t., April 15, 2005; after which the fishery will remain closed until opened through an additional inseason action for the west coast salmon fisheries, which will be published in the Federal Register, or until the effective date of the next scheduled open period announced in the 2005 annual management measures. Comments will be accepted through May 26, 2005.

ADDRESSES: Comments on these actions must be mailed to D. Robert Lohn, Regional Administrator, Northwest Region, NMFS, NOAA, 7600 Sand Point Way N.E., Bldg. 1, Seattle, WA 98115-0070; or faxed to 206-526-6376; or Rod McInnis, Regional Administrator, Southwest Region, NMFS, NOAA, 501 W. Ocean Blvd., Suite 4200, Long Beach, CA 90802-4132; or faxed to 562-980-4018. Comments can also be submitted via e-mail at the 2005salmonIA1.nwr@noaa.gov address, or through the internet at the Federal eRulemaking Portal: http://www.regulations.gov. Follow the instructions for submitting comments, and include Docket Number 040429134-4135-01 in the subject line of the message. Information relevant to this document is available for public review during business hours at the Office of the Regional Administrator, Northwest Region, NMFS.

FOR FURTHER INFORMATION CONTACT: Christopher Wright, 206-526-6140.

SUPPLEMENTARY INFORMATION: The NMFS Regional Administrator (RA) modified the seasons for the commercial salmon fishery in the area from Cape Falcon, OR to the Oregon-California Border by inseason action. The area from Cape Falcon to Humbug Mountain, OR was modified to be open March 15 through March 25, 2005, and April 1 through April 15, 2005, with a Chinook minimum size limit of 27 inches (68.6 cm) total length and a landing restriction that all fish caught within the area must be landed in Oregon. The area from Humbug Mountain to the Oregon/California Border was modified to be open March 15 through March 25, 2005, and April 1 through April 15, 2005, with a Chinook minimum size of 27 inches (68.6 cm) total length and a landing restriction that vessels must land their fish in Gold Beach, Port Orford, or Brookings, OR. On March 10, 2005, the RA determined that available catch and effort data indicated that the impacts to certain weak stocks was more than predicted preseason in 2004 and that restricting the fishery was warranted to reduce impacts to weak stocks, and to offset the need for even greater restrictions in the fisheries proposed to open after May 1, 2005.

All other restrictions remain in effect as announced for 2004 ocean salmon fisheries. This action was necessary to conform to the 2004 management goals. Modification of fishing seasons is authorized by regulations at 50 CFR 660.409(b)(1)(i) and (ii).

In the 2004 annual management measures for ocean salmon fisheries (69 FR 25026, May 5, 2004), NMFS announced the commercial fishery for all salmon in the area from Cape Falcon, OR, to the Oregon-California Border would open for the following areas:

Cape Falcon to Florence South Jetty, OR

In 2005, the season will open March 15 for all salmon except coho, with a 27- inch (68.6-cm) total length Chinook minimum size limit. This opening could be modified following Pacific Fishery Management Council (Council) review at its November 2004 meeting.

Florence South Jetty to Humbug Mountain, OR

In 2005, the season will open March 15 for all salmon except coho, with a 27 inch (68.6 cm) total length Chinook minimum size limit. This opening could be modified following Council review at its November 2004 meeting.

Humbug Mountain, OR to Oregon-California Border

In 2005 the season will open March 15 for all salmon except coho, with a 27 inch (68.6 cm) total length minimum size limit. This opening could be modified following Council review at its November 2004 meeting.

During the November 2004 meeting the Council decided to defer making a decision to modify the commercial salmon fisheries off Oregon, that were scheduled to open prior to May 1, 2005, to the March 2005 meeting. The decision was deferred because of the expectation that there would be better information regarding the status of Klamath River fall (KRF) Chinook, the primary stock of concern, at the March meeting.

On March 9, 2005, during the Council meeting, the State of Oregon proposed, and the Council adopted multiple modifications to the commercial salmon fishery in the area from Cape Falcon, OR, to the Oregon-California Border. The area from Cape Falcon to Humbug Mountain, OR was modified to be open March 15 through April 15, 2005, with a Chinook minimum size is 27 inches (68.6 cm) total length, and a landing restriction that all fish caught within this area must be landed in Oregon. The area from Humbug Mountain to the Oregon/California Border was modified to open March 15 through April 30, 2005, with a Chinook minimum size of 27 inches (68.6 cm) total length, and a landing restriction that vessels must land their fish in Gold Beach, Port Orford, or Brookings, OR. The purpose of the modification was to reduce fishing time in the early season when impacts to KRF Chinook would be particularly high. Without the modifications the summer fishing seasons beginning May 1 would have had to be reduced even farther to meet management objectives for KRF Chinook.

On March 10, 2005, the Council's Salmon Technical Committee provided additional analysis regarding the proposed options being developed for the 2005 fishing seasons. The analysis indicated that the impacts on KRF Chinook during the summer would be higher than had been reported the previous day when the Council made their decision regarding the above inseason action. In response, the State of Oregon and the Oregon representatives of the Council's Salmon Advisory Subpanel proposed to further restrict the spring salmon fisheries in order to meet conservation objectives for KRF Chinook and reduce the need for even greater restrictions during the summer. Therefore, the State of Oregon proposed, and the Council adopted, the following seasons: in the area from Cape Falcon to Humbug Mountain, OR to be open March 15 through March 25, 2005, and April 1 through April 15, 2005, with a Chinook minimum size limit of 27 inches (68.6 cm) total length and a landing restriction that all fish caught within the area must be landed in Oregon; and in the area from Humbug Mountain to the Oregon/California Border to be open March 15 through March 25, 2005, and April 1 through April 15, 2005, with a Chinook minimum size of 27 inches (68.6 cm) total length and a landing restriction that vessels must land their fish in Gold Beach, Port Orford, or Brookings, OR.

The RA consulted with the Council, including the Oregon Department of Fish and Wildlife, during the November and March 2005 Council meetings. Information related to the status of KRF Chinook, catch to date, the Chinook catch rate, and effort data indicated that restricting the spring fisheries was warranted to reduce impacts to weak stocks, and to offset the need for even greater restrictions in the fisheries proposed to open after May 1, 2005. As a result, NMFS approved the inseason modifications adopted by the Council at its March 2005 meeting.

The RA determined that the best available information indicated that the catch and effort data, and projections, supported the above inseason action recommended by the Council. The states manage the fisheries in state waters adjacent to the areas of the U.S. exclusive economic zone in accordance with these Federal actions. As provided by the inseason notice procedures of 50 CFR 660.411, actual notice to fishers of the previously described action was given, prior to the date the action was effective, by telephone hotline number 206-526-6667 and 800-662-9825, and by U.S. Coast Guard Notice to Mariners broadcasts on Channel 16 VHF-FM and 2182 kHz.

This action does not apply to other fisheries that may be operating in other areas.

Classification

The Assistant Administrator for Fisheries, NOAA (AA), finds that good cause exists for this notification to be issued without affording prior notice and opportunity for public comment under 5 U.S.C. 553(b)(B) because such notification would be impracticable. As previously noted, actual notice of this action was provided to fishers through telephone hotline and radio notification. This action complies with the requirements of the annual management measures for ocean salmon fisheries (69 FR 25026, May 5, 2004), the West Coast Salmon Plan, and regulations implementing the West Coast Salmon Plan (50 CFR 660.409 and 660.411). Prior notice and opportunity for public comment was impracticable because NMFS and the state agencies had insufficient time to provide for prior notice and the opportunity for public comment between the time the fishery catch and effort data were collected to determine the extent of the fisheries, and the time the fishery modifications had to be implemented in order to allow fishers access to the available fish at the time the fish were available. The AA also finds good cause to waive the 30-day delay in effectiveness required under U.S.C. 553(d)(3), as a delay in effectiveness of these actions would unnecessarily limit fishers appropriately controlled access to available fish during the scheduled fishing season.

This action is authorized by 50 CFR 660.409 and 660.411 and is exempt from review under Executive Order 12866.

Authority: 16 U.S.C. 1801 et seq.

Dated: May 6, 2005.
Alan D. Risenhoover,
Acting Director, Office of Sustainable Fisheries, National Marine Fisheries Service.

[FR Doc. 05-9421 Filed 5-10-05; 8:45 am]

BILLING CODE 3510-22-S